NATIONAL ARCHIVES AND RECORDS ADMINISTRATION

[NARA-2018-051]

Agency Information Collection Activities: Proposed Collection; Comment Request

AGENCY: National Archives and Records Administration (NARA).

ACTION: Notice.

SUMMARY: NARA gives public notice that it proposes to request extension of three currently approved information collections. People use the first information collection to request permission to use privately owned equipment to digitize NARA and Presidential library archival holdings. They use the second information collection to request permission to film, photograph, or videotape at a NARA facility for news purposes. And they use the third information collection to request permission to use NARA facilities in the Washington, DC, area for events. We invite you to comment on these proposed information collections pursuant to the Paperwork Reduction Act of 1995.

DATES: We must receive written comments on or before September 25, 2018.

ADDRESSES: Send comments to Paperwork Reduction Act Comments (MP), Room 4100; National Archives and Records Administration; 8601 Adelphi Road; College Park, MD 20740-6001, fax them to 301-837-0319, or email them to tamee.fechhelm@nara.gov.

FOR FURTHER INFORMATION CONTACT: Contact Tamee Fechhelm by telephone at 301-837-1694 or fax at 301-837-0319 with requests for additional information or copies of the proposed information collections and supporting statements.

SUPPLEMENTARY INFORMATION: Pursuant to the Paperwork Reduction Act of 1995 (Pub. L. 104-13), NARA invites the public and other Federal agencies to comment on proposed information collections. The comments and suggestions should address one or more of the following points: (a) Whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether the collection affects small businesses. We will summarize any comments you submit and include the summary in our request for Office of Management and Budget (OMB) approval. All comments will become a matter of public record. In this notice, NARA solicits comments concerning the following information collections:

1. Title: Request to digitize records.

OMB number: 3095-0017.

Agency form number: None.

Type of review: Regular.

Affected public: Companies and organizations that wish to digitize archival holdings in the National Archives of the United States or a Presidential library for micropublication.

Estimated number of respondents: 10.

Estimated time per response: 5 hours.

Frequency of response: On occasion (when respondent wishes to request permission to digitize records).

Estimated total annual burden hours: 50.

Abstract: The information collection is prescribed by 36 CFR 1254.92. The collection is prepared by companies and organizations that wish to digitize archival holdings with privately-owned equipment. NARA uses the information to determine whether the request meets the criteria in 36 CFR 1254.94, to evaluate the records for digitization, and to schedule use of the limited space available for digitizing.

2. Title: Request to film, photograph, or videotape at a NARA facility for news purposes.

OMB number: 3095-0040.

Agency form number: None.

Type of review: Regular.

Affected public: Business or other for-profit, not-for-profit institutions.

Estimated number of respondents: 350.

Estimated time per response: 10 minutes.

Frequency of response: On occasion.

Estimated total annual burden hours: 58.

Abstract: The information collection is prescribed by 36 CFR 1280.48. The collection is prepared by organizations that wish to film, photograph, or videotape on NARA property for news purposes. NARA needs the information to determine if the request complies with NARA's regulations, to ensure protection of archival holdings, and to schedule the filming appointment.

3. Title: Request to use NARA facilities in the Washington, DC, area for events.

OMB number: 3095-0043.

Agency form number: None.

Type of review: Regular.

Affected public: Not-for-profit institutions, individuals or households, business or other for-profit, Federal Government.

Estimated number of respondents: 530.

Estimated time per response: Between 5 and 30 minutes.

Frequency of response: On occasion.

Estimated total annual burden hours: 169.

Abstract: The information collection is prescribed by 36 CFR 1280.80 and 1280.82. The collection is prepared by organizations that wish to use NARA public areas in the Washington, DC, area for an event. NARA uses the information to determine whether or not we can accommodate the request and to ensure that the proposed event complies with NARA regulations.

Swarnali Haldar,
Executive for Information Services/CIO.

[FR Doc. 2018-16044 Filed 7-26-18; 8:45 am]

BILLING CODE 7515-01-P